ENVIRONMENTAL PROTECTION AGENCY

[FRL OPRM-FAD-205]

Environmental Impact Statements; Notice of Availability

Responsible Agency: Office of Federal Activities, General Information 202-993-3272 or https://www.epa.gov/nepa.

Weekly receipt of Environmental Impact Statements (EIS)

Filed January 5, 2026 10 a.m. EST Through January 12, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250180, Final, USAF, NV, Master Plan and Installation Development at Nellis Air Force Base, Nevada, Contact: Daniel Fisher 210-925-2738.

EIS No. 20250181, Draft Supplement, BLM, CA, Central Coast Field Office Oil and Gas, Leasing and Development, California, Comment Period Ends: 03/06/2026, Contact: Sarah Mathews 831-582-2257.

EIS No. 20250182, Draft Supplement, BLM, CA, Bakersfield Field Office Oil and Gas Leasing and Development, California, Comment Period Ends: 03/06/2026, Contact: Sarah Mathews 661-391-6145.

EIS No. 20250183, Final, FTA, TX, Austin Light Rail Phase 1 Project, Contact: Terence Plaskon 817-978-0573.

Under 23 U.S.C. 139(n)(2), FTA has issued a single document that consists of a final environmental impact statement and record of decision. Therefore, the 30-day wait/review period under NEPA does not apply to this action.

EIS No. 20250184, Draft, BR, CO, Post-2026 Colorado River Reservoir Operations, Comment Period Ends: 03/02/2026, Contact: KayLee Nelson 702-293-8073.

Dated: January 12, 2026.
Nancy Abrams,
Deputy Director, Federal Activities Division.

[FR Doc. 2026-00844 Filed 1-15-26; 8:45 am]

BILLING CODE 6560-50-P